DEPARTMENT OF COMMERCE

Foreign-Trade Zones Board

[B-21-2018]

Foreign-Trade Zone (FTZ) 249—Pensacola, Florida; Authorization of Production Activity; GE Renewables North America, LLC (Wind Turbine Nacelles, Hubs, and Drivetrains); Pensacola, Florida

On April 9, 2018, GE Renewables North America, LLC, submitted a notification of proposed production activity to the FTZ Board for its facility within Subzone 249A, in Pensacola, Florida.

The notification was processed in accordance with the regulations of the FTZ Board (15 CFR part 400), including notice in the Federal Register inviting public comment (83 FR 17143-17144, April 18, 2018). On August 7, 2018, the applicant was notified of the FTZ Board's decision that no further review of the activity is warranted at this time. The production activity described in the notification was authorized, subject to the FTZ Act and the FTZ Board's regulations, including Section 400.14, and to a restriction that steel bars be admitted to the subzone in privileged foreign status (19 CFR 146.41).

Dated: August 8, 2018.
Elizabeth Whiteman,
Acting Executive Secretary.

[FR Doc. 2018-17416 Filed 8-13-18; 8:45 am]

BILLING CODE 3510-DS-P